FEDERAL COMMUNICATIONS COMMISSION

47 CFR Part 73

[DA 05-561; MB Docket No. 04-401; RM-11095]

Radio Broadcasting Services; Durant, OK and Tom Bean, TX

AGENCY: Federal Communications Commission.

ACTION: Final rule.

SUMMARY: In response to a Notice of Proposed Rule Making, 69 FR 65118 (November 10, 2004), this document reallots Channel 248C2 from Durant, Oklahoma to Tom Bean, Texas, and modifies the license of Station KLAK (FM) accordingly. The coordinates for Channel 248C2 at Tom Bean are 33-28-52 North Latitude and 96-32-03 West Longitude, with a site restriction of 6.4 kilometers (4 miles) southwest of the community.

DATES: Effective April 18, 2005.

FOR FURTHER INFORMATION CONTACT: Helen McLean, Media Bureau, (202) 418-2738.

SUPPLEMENTARY INFORMATION: This is a synopsis of the Commission's Report and Order, MB Docket No. 04-401, adopted March 2, 2005, and released March 4, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under Oklahoma, is amended by removing Channel 248C2 at Durant.

3. Section 73.202(b), the Table of FM Allotments under Texas, is amended by adding Tom Bean, Channel 248C2.

Federal Communications Commission.
John A. Karousos,
Assistant Chief, Audio Division, Media Bureau.

[FR Doc. 05-5400 Filed 3-17-05; 8:45 am]

BILLING CODE 6712-01-P